DEPARTMENT OF COMMERCE

Foreign-Trade Zones Board

[Order No. 1476]

Approval of Requests for Manufacturing Authority, Within Four FTZ Distribution Facilities - Michelin North America, Inc., (Wheel Assemblies)

Pursuant to its authority under the Foreign-Trade Zones Act of June 18, 1934, as amended (19 U.S.C. 81a-81u), the Foreign-Trade Zones Board (the Board) adopts the following Order:

Whereas, applications to the Board were submitted by four grantees (FTZ Docket 53-2005; filed 10/20/2005) requesting FTZ manufacturing authority on behalf of Michelin North America, Inc., to conduct wheel assembly at its FTZ tire-distribution facilities listed below:

Grantee: FTZ 84, Port of Houston Authority

Site: SZ 84R, Houston, Texas

Grantee: FTZ 38, South Carolina State Ports Authority

Site: FTZ 38 - Site 5, Laurens, South Carolina

Grantee: FTZ 126, Economic Development Authority of Western Nevada

Site: FTZ 126 - Site 7, Reno, Nevada

Grantee: FTZ 70, Greater Detroit Foreign Trade Zone, Inc.

Site: FTZ 70 - Site 18, Temperance, Michigan

Whereas, notice inviting public comment has been given in the Federal Register (70 FR 62295, 10/31/2005) and the applications have been processed pursuant to the FTZ Act and the Board's regulations; and,

Whereas, the Board adopts the findings and recommendations of the examiner's report, and finds that the requirements of the FTZ Act and the Board's regulations are satisfied, and that the proposals are in the public interest;

Now, therefore, the Board hereby orders:

The applications for manufacturing authority for wheel assemblies on behalf of Michelin North America, Inc., at the FTZ facilities listed above, and as described in the applications and in the Federal Register notice, are approved, subject to the FTZ Act and the Board's regulations, including Section 400.28.

Signed at Washington, DC, this 21st day of August 2006.

David M. Spooner,
Assistant Secretary of Commerce for Import Administration, Alternate Chairman, Foreign-Trade Zones Board.
Attest:
Andrew McGilvray,
Acting Executive Secretary.

[FR Doc. E6-14334 Filed 8-28-06; 8:45 am]

BILLING CODE 3510-DS-S